DEPARTMENT OF TRANSPORTATION

Federal Aviation Administration

[Docket No FAA-2013-0316]

Aviation Rulemaking Advisory Committee Airman Certification System Working Group

AGENCY: Federal Aviation Administration (FAA), DOT.

ACTION: Notice of Request for Comment.

SUMMARY: This notice announces the availability of draft Airman Certification Standards documents developed by the Airman Certification Standards Working Group for the commercial pilot certificate and the authorized instructor certificate. The Airman Certification Standards documents are designed as the foundation for transitioning to a more integrated and systematic approach to airman certification testing and training. Given their importance in the ongoing evolution of the FAA's airman certification testing and training system, the Airman Certification Standards Working Group wishes to make the draft Airman Certification Standards for the commercial pilot certificate and the revised Airman Certification Standards for the authorized instructor certificate available to the public for review and comment. The Airman Certification Standards Working Group will use the comments it receives to refine its work on this task. These documents are available for public review, download, and comment.

DATES: Send comments on or before August 25, 2014.

ADDRESSES: Send comments identified by docket number [FAA-2013-0316] using any of the following methods:

• Federal eRulemaking Portal: Go to http://www.regulations.gov and follow the online instructions for sending your comments electronically.

• Mail: Send comments to Docket Operations, M-30, U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at (202) 493-2251.

Privacy: The FAA will post all comments it receives, without change, to http://www.regulations.gov, including any personal information the commenter provides. Using the search function of the docket Web site, anyone can find and read the electronic form of all comments received into any FAA dockets, including the name of the individual sending the comment (or signing the comment for an association, business, labor union, etc.). DOT's complete Privacy Act Statement can be found in the Federal Register published on April 11, 2000 (65 FR 19477-19478), as well as at http://DocketsInfo.dot.gov.

Docket: Background documents or comments received may be read at http://www.regulations.gov at any time. Follow the online instructions for accessing the docket or Docket Operations in Room W12-140 of the West Building Ground Floor at 1200 New Jersey Avenue SE., Washington, DC, between 9 a.m. and 5 p.m., Monday through Friday, except Federal holidays.

FOR FURTHER INFORMATION CONTACT: Van L. Kerns, Manager, Regulatory Support Division, FAA Flight Standards Service, AFS 600, FAA Mike Monroney Aeronautical Center, P.O. Box 25082, Oklahoma City, OK 73125; telephone (405) 954-4431, email van.l.kerns@faa.gov.

SUPPLEMENTARY INFORMATION:

Background

On December 19, 2013, the Aviation Rulemaking Advisory Committee (ARAC) accepted the FAA's assignment of a new task arising from recommendations of the ARAC Airman Testing Standards and Training Working Group (ATSTWG). The ATSTWG recommended specific steps the FAA should take to adopt, implement, and manage the integrated Airman Certification Standards (ACS) approach to airman certification testing and training. The new task instructed the ARAC to establish an Airman Certification System Working Group (ACS WG) to provide expert assistance and industry views to the FAA's Flight Standards Service on the development, modification, and continued alignment of the major components of the airman certification system.

The FAA announced the ARAC's acceptance of this task through a Federal Register Notice published on January 29, 2014 [79 FR 4800]. This Notice described the task elements and solicited participants for the ACS WG, which formed and began its work in March 2014.

The FAA has specifically tasked the ACS WG to support the FAA's goal to enhance aviation safety and reduce the fatal general aviation accident rate by providing a means for the aviation industry to provide expert assistance and industry views to the FAA's Flight Standards Service on the development, modification, and continued alignment of the major components of the airman certification system. These include:

1. The ACS for airman certificates and ratings (i.e. 8081-series documents);

2. Associated training guidance material (e.g., H-series handbooks);

3. Test management (e.g., test question development, test question boarding, test composition/test “mapping,” and CT-8080-series figures); and

4. Reference materials, to include AFS directives and Aviation Safety Inspector guidance; FAA Orders, Advisory Circulars (ACs), and other documents pertaining to the airman certification system.

In accordance with this tasking, the ACS WG has developed draft ACS documents that align the aeronautical knowledge testing standards with the flight proficiency standards set out in the existing Practical Test Standards. In addition to supporting the FAA's effort to improve the relevance, reliability, validity, and effectiveness of aeronautical testing and training materials, the draft ACS documents support the FAA's goal of reducing fatal general aviation accidents by incorporating task-specific risk management considerations into each Area of Operation.

Following the ACS model outlined by the ARAC ATSTWG, the ACS WG has completed its initial work on the ACS for the commercial pilot certificate. The ACS WG has also refined the ATSTWG-developed ACS for the authorized instructor certificate. At the request of the ACS WG, and in accordance with practices outlined by the ATSTWG for the private pilot certificate and instrument rating ACS documents, the ACS WG is making these documents available for public comment through docket number FAA-2013-0316. The ACS WG will use the comments it receives to refine its work toward completing FAA-assigned tasks.

The ACS WG notes that while the draft authorized instructor ACS follows the overall conceptual framework developed for the private pilot ACS, the instrument rating ACS, and the newly-developed commercial pilot ACS, its construction reflects fundamental differences between the family of pilot certificates/ratings and the instructor certificate. The core of the authorized instructor ACS addresses practical application of the instructional concepts and techniques presented in the traditional Fundamentals of Instructing (FOI). The authorized instructor ACS uses appendices to define the acceptable standards for knowledge, skill, and risk management in the aeronautical proficiency tasks unique to a particular instructor certificate or rating.

The ACS WG also wishes to emphasize that the authorized instructor ACS is not intended to be a stand-alone document. Rather, it is intended to be used in conjunction with the pilot certificate level or rating ACS for which the instructor-applicant seeks authorization to provide instruction. Therefore, in addition to mastery of the knowledge and skills defined in the authorized instructor ACS, the instructor-applicant must demonstrate instructional competence for Tasks in the ACS for the appropriate certificate level or rating, to include analyzing and correcting common learner errors.

Issued in Washington, DC, under the authority set forth in 49 U.S.C. 106(f) on June 19, 2014.
Brenda D. Courtney,
Acting, Designated Federal Officer, Aviation Rulemaking Advisory Committee.

[FR Doc. 2014-14791 Filed 6-24-14; 8:45 am]

BILLING CODE 4910-13-P